DEPARTMENT OF EDUCATION

34 CFR Subtitle A

[Docket No.: ED-2015-OII-0006; (CFDA) Numbers: 84.411A (Scale-up grants), 84.411B (Validation grants), and 84.411C (Development grants)]

RIN 1855-ZA10

Proposed Priority—Investing in Innovation Fund; Catalog of Federal Domestic Assistance

AGENCY: Office of Innovation and Improvement, Department of Education.

ACTION: Proposed priority.

SUMMARY: The Assistant Deputy Secretary for Innovation and Improvement proposes a priority under the Investing in Innovation Fund (i3). The Assistant Deputy Secretary may use this priority for competitions in fiscal year (FY) 2015 and later years. The proposed priority would not repeal or replace currently established priorities for this program.

DATES: We must receive your comments on or before April 16, 2015.

ADDRESSES: Submit your comments through the Federal eRulemaking Portal or via postal mail, commercial delivery, or hand delivery. We will not accept comments by fax or by email or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under “Are you new to this site?”

• Postal Mail, Commercial Delivery, or Hand Delivery: If you mail or deliver your comments about these proposed regulations, address them to Allison Moss, U.S. Department of Education, 400 Maryland Avenue SW., Room 4W319, Washington, DC 20202-5930.

Privacy Note: The Department of Education's (Department) policy is to make all comments received from members of the public available for public viewing in their entirety on the Federal eRulemaking Portal at www.regulations.gov. Therefore, commenters should be careful to include in their comments only information that they wish to make publicly available.

FOR FURTHER INFORMATION CONTACT: Allison Moss. Telephone: (202) 205-7726 or by email: Allison.moss@ed.gov.

If you use a telecommunications device for the deaf (TDD) or a text telephone (TTY), call the Federal Relay Service (FRS), toll free, at 1-800-877-8339.

SUPPLEMENTARY INFORMATION: Summary of the Major Provisions of This Regulatory Action: In this document, the Department proposes a priority for the i3 program that would promote the implementation of comprehensive high school reform and redesign strategies. This proposed priority could be used in the Development, Validation, or Scale-up tier of the i3 program in future years, as appropriate.

Costs and Benefits: The Assistant Deputy Secretary believes that the proposed priority would not impose significant costs on eligible applicants seeking assistance through the i3 program.

The proposed priority is designed to be used in conjunction with several priorities that have already been established under the i3 program, and no priority, whether it is used as an absolute or competitive preference priority, affects the overall amount of funding available to individual applicants in any given fiscal year.

In addition, we note that participation in this program is voluntary. Potential applicants need to consider carefully the effort that will be required to prepare a strong application, their capacity to implement a project successfully, and their chances of submitting a successful application. We believe that the costs imposed on applicants by the proposed priority would be limited to paperwork burden related to preparing an application and that the benefits of implementing these proposals would outweigh any costs incurred by applicants. The costs of carrying out activities would be paid for with program funds and with matching funds provided by private-sector partners. Thus, the costs of implementation would not be a burden for any eligible applicants, including small entities.

Invitation to Comment: We invite you to submit comments regarding this notice.

We invite you to assist us in complying with the specific requirements of Executive Orders 12866 and 13563 and their overall requirement of reducing regulatory burden that might result from this proposed priority. Please let us know of any further ways we could reduce potential costs or increase potential benefits while preserving the effective and efficient administration of the program.

During and after the comment period, you may inspect all public comments about this notice by accessing Regulations.gov. You may also inspect the comments in person in Room 4W335, 400 Maryland Avenue SW., Washington, DC, between the hours of 8:30 a.m. and 4:00 p.m., Washington, DC time, Monday through Friday of each week except Federal holidays. Please contact the person listed under FOR FURTHER INFORMATION CONTACT in order to schedule a time to inspect comments in person.

Assistance to Individuals With Disabilities in Reviewing the Rulemaking Record: On request we will provide an appropriate accommodation or auxiliary aid to an individual with a disability who needs assistance to review the comments or other documents in the public rulemaking record for this notice. If you want to schedule an appointment for this type of accommodation or auxiliary aid, please contact the person listed under FOR FURTHER INFORMATION CONTACT.

Purpose of Program: The i3 program addresses two related challenges. First, there are too few practices in education supported by rigorous evidence of effectiveness, despite national attention paid to finding practices that are effective in improving education outcomes in the decade since the establishment of the Department's Institute of Education Sciences. Second, there are limited incentives to expand effective practices substantially and to use those practices to serve more students across schools, districts, and States. As a result, students do not always have access to high-quality programs.

The i3 program addresses these two challenges through its multi-tier structure that links the amount of funding that an applicant may receive to the quality of the evidence supporting the efficacy of the proposed project. Applicants proposing practices supported by limited evidence can receive small grants to support the development and initial evaluation of promising practices and help to identify new solutions to pressing challenges; applicants proposing practices supported by evidence from rigorous evaluations, such as large randomized controlled trials, can receive substantially larger grants to support expansion across the Nation. This structure provides incentives for applicants to build evidence of effectiveness of their proposed projects and to address the barriers to serving more students across schools, districts, and States so that applicants can compete for more sizeable grants.

As importantly, all i3 projects are required to generate additional evidence of effectiveness. All i3 grantees must use part of their grant award to conduct independent evaluations of their projects. This ensures that projects funded under the i3 program contribute significantly to improving the information available to practitioners and policymakers about which practices work, for which types of students, and in which contexts. More information about the i3 program, including information about eligible applicants, can be found in the notice of final priorities, requirements, definitions, and selection criteria, published in the Federal Register on March 27, 2013 (78 FR 18682).

Program Authority: American Recovery and Reinvestment Act of 2009 (ARRA), Division A, Section 14007, Public Law 111-5.

Proposed Priority: This notice contains one proposed priority.

Proposed Priority—Implementing Comprehensive High School Reform and Redesign

Background

The Department has conducted five competitions under the i3 program and awarded 143 i3 grants since the program was established under ARRA.

In FY 2015, Congress directed the Department, in making new awards with FY 2015 i3 funds, to establish a priority to support high school reform that will increase the number and percentage of students who graduate from high school and enroll in postsecondary education without the need for remediation and with the ability to think critically, solve complex problems, evaluate arguments on the basis of evidence, and communicate effectively. Congress further recommended that the Department use this priority to support schools where not less than 40 percent of students are from low-income families.

There is a growing body of evidence about what works in comprehensive high school reform. Interventions supported by research include: Implementing a rigorous college- and career-ready curriculum that links student work and real-world experiences; ¹ providing accelerated learning opportunities that allow students to earn credit toward a postsecondary degree, including dual enrollment programs and early college high schools; ² implementing early warning indicator systems to identify and target supports for struggling students; ³ personalizing learning for students; ⁴ and strengthening relationships with business and post-secondary partners, linking student work to real-world expectations and experiences.⁵ There is a particular need to improve readiness for college and careers in science, technology, engineering, and mathematics (STEM) fields, both because these are high-growth fields and because too many of our high schools fall short in this area.⁶ There is also substantial evidence that demonstrates that comprehensive academic supports for high school students can improve student outcomes, increasing high school graduation and college preparation,⁷ including for at-risk students.⁸

¹ Dynarski, M., Clarke, L., Cobb, B., Finn, J., Rumberger, R., and Smink, J. (2008). Dropout Prevention: A Practice Guide (NCEE 2008-4025). Washington, DC: National Center for Education Evaluation and Regional Assistance (NCEE), Institute of Education Sciences (IES), U.S. Department of Education. Retrieved from http://ies.ed.gov/ncee/wwc (see Recommendation 6); Kemple, J., Herlihy, C., & Smith, T. (2005). Making progress toward graduation: Evidence from the Talent Development High School model. New York: MDRC. IES Intervention Report Available at: http://ies.ed.gov/ncee/wwc/interventionreport.aspx?sid=506; and Forbes, J. (2011). A model for success: CART's Linked Learning program increases college enrollment. Clovis, CA: The Center for Advanced Research and Technology. What Works Clearinghouse (WWC) Quick Review Available at: http://ies.ed.gov/ncee/wwc/quickreviewsum.aspx?sid=171.

² U.S. Department of Education, IES, WWC (March 2014). WWC review of the report: Early college, early success: Early College High School Initiative impact study. Retrieved from http://whatworks.ed.gov; and An, B. P. (2012). The impact of dual enrollment on college degree attainment: Do low-SES students benefit? Educational Evaluation and Policy Analysis, 35, 57-75. WWC Single Study Review Available at: http://ies.ed.gov/ncee/wwc/singlestudyreview.aspx?sid=20004.

³ Sinclair, M.F., Christenson, S.L., Lehr, C.A., & Anderson, A.R. (2003). Facilitating student engagement: Lessons learned from Check & Connect longitudinal studies. The California School Psychologist, 8(1), 29-42. IES Intervention Report Available at: http://ies.ed.gov/ncee/wwc/interventionreport.aspx?sid=78.

⁴ Dynarski, M., Clarke, L., Cobb, B., Finn, J., Rumberger, R., and Smink, J. (2008). Dropout Prevention: A Practice Guide (NCEE 2008-4025). Washington, DC: National Center for Education Evaluation and Regional Assistance, Institute of Education Sciences, U.S. Department of Education. Retrieved from http://ies.ed.gov/ncee/wwc (see Recommendation 5).

⁵ Kemple, J. J., & Snipes, J. C. (2000). Career Academies: Impacts on students' engagement and performance in high school. New York: MDRC (Manpower Demonstration Research Corporation). IES Intervention Report Available at: http://ies.ed.gov/ncee/wwc/interventionreport.aspx?sid=70.

⁶ National Research Council (2011). Successful K-12 STEM Education: Identifying Effective Approaches in Science, Technology, Engineering, and Mathematics. Committee on Highly Successful Science Programs for K-12 Science Education. Board on Science Education and Board on Testing and Assessment, Division of Behavioral and Social Sciences and Education. Washington, DC: The National Academies Press. Available at: http://www.stemreports.com/wp-content/uploads/2011/06/NRC_STEM_2.pdf.

⁷ Fryer, Roland G. (April 2014). Injecting Charter School Best Practices into Traditional Public Schools: Evidence from Field Experiments. Available at: http://scholar.harvard.edu/files/fryer/files/2014_injecting_charter_school_best_practices_into_traditional_public_schools.pdf; Sinclair, M. F., Christenson, S. L., Lehr, C. A., & Anderson, A. R. (2003). Facilitating student engagement: Lessons learned from Check & Connect longitudinal studies. The California School Psychologist, 8(1), 29-42. IES Intervention Report Available at: http://ies.ed.gov/ncee/wwc/interventionreport.aspx?sid=78; and Constantine, J. M., Seftor, N. S., Martin, E. S., Silva, T., & Myers, D. (2006). A study of the effect of the Talent Search program on secondary and postsecondary outcomes in Florida, Indiana, and Texas: Final report from phase II of the national evaluation. Report prepared by Mathematica Policy Research for the U.S. Department of Education, Office of Planning, Evaluation, and Policy Development, Policy and Program Studies Service. Washington, DC: U.S. Department of Education. IES Intervention Report Available at: http://ies.ed.gov/ncee/wwc/interventionreport.aspx?sid=508.

⁸ Bloom, D., Gardenhire-Crooks, A., & Mandsager, C. (2009). Reengaging high school dropouts: Early results of the National Guard Youth ChalleNGe Program evaluation. New York, NY: MDRC; Cave, G., Bos, H., Doolittle, F., & Toussaint, C. (1993). JOBSTART: Final report on a program for school dropouts. New York, NY: MDRC. IES Intervention Report Available at: http://ies.ed.gov/ncee/wwc/interventionreport.aspx?sid=248; and Larson, K. A., & Rumberger, R. W. (1995). ALAS: Achievement for Latinos through Academic Success. In H. Thornton (Ed.), Staying in school. A technical report of three dropout prevention projects for junior high school students with learning and emotional disabilities. Minneapolis, MN: University of Minnesota, Institute on Community Integration. IES Intervention Report Available at: http://ies.ed.gov/ncee/wwc/interventionreport.aspx?sid=22.

The Department expects that any high school reform strategy would, at a minimum, be designed to improve outcomes for all students in a school, and these strategies may be composed from a variety of activities and interventions, including, but not limited to, those outlined above. In addition, for this proposed priority, we are also interested in projects that are designed to prepare students with the skills necessary to succeed in postsecondary programs, such as critical thinking, persistence, solving complex and non-routine problems, making arguments using evidence, and communicating effectively.

To better ensure that projects addressing this proposed priority will improve outcomes for high-need students, and to ensure that this proposed priority serves the populations intended by Congress, we seek projects that will be implemented in high schools that are eligible to operate Title I schoolwide programs under Section 1114 of the Elementary and Secondary Education Act of 1965, as amended. Through this proposed priority, we aim to expand the development, use, and evidence base of effective strategies for helping high-need students attain the skills they need to succeed in college, career, and life.

Proposed Priority—Implementing Comprehensive High School Reform and Redesign

Under this priority, we provide funding to support comprehensive high school reform and redesign strategies in high schools eligible to operate Title I schoolwide programs under section 1114 of the Elementary and Secondary Education Act of 1965, as amended. These strategies must be designed to increase the number and percentage of students who graduate from high school college- and career-ready and enroll in college, other postsecondary education, or other career and technical education.

These strategies could include elements such as implementing a rigorous college- and career-ready curriculum; providing accelerated learning opportunities; supporting personalized learning; developing robust links between student work and real-world experiences to better prepare students for their future; improving the readiness of students for post-secondary education in STEM fields; or reducing the need for remediation, among others.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Note: In the i3 competition, each application must choose to address one of the absolute priorities and projects are grouped by that absolute priority for the purposes of peer review and funding determinations. In FY 2015, Congress directed the Department to establish the priority proposed in this document as an absolute priority.

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final Priority

We will announce the final priority in a notice in the Federal Register. We will determine the final priority after considering responses to this notice and other information available to the Department. This notice does not preclude us from proposing additional priorities, requirements, definitions, or selection criteria, subject to meeting applicable rulemaking requirements.

Note: This notice does not solicit applications. In any year in which we choose to use this priority, we invite applications through a notice in the Federal Register.

Executive Orders 12866 and 13563

Regulatory Impact Analysis

This proposed regulatory action, i.e., the addition of the proposed priority for implementing comprehensive high school reform and redesign, is not a significant regulatory action subject to review by OMB under section 3(f) of Executive Order 12866.

We have also reviewed this proposed regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing this proposed priority only on a reasoned determination that their benefits would justify their costs. In choosing among alternative regulatory approaches, we selected those approaches that would maximize net benefits. Based on the analysis that follows, the Department believes that this regulatory action is consistent with the principles in Executive Order 13563.

We also have determined that this regulatory action would not unduly interfere with State, local, and tribal governments in the exercise of their governmental functions.

In accordance with both Executive orders, the Department has assessed the potential costs and benefits, both quantitative and qualitative, of this regulatory action. The potential costs associated with this regulatory action are those resulting from statutory requirements and those we have determined as necessary for administering the Department's programs and activities.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Accessible Format: Individuals with disabilities can obtain this document in an accessible format (e.g., braille, large print, audiotape, or compact disc) on request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: March 11, 2015.
Nadya Chinoy Dabby,
Assistant Deputy Secretary for Innovation and Improvement.

[FR Doc. 2015-05956 Filed 3-16-15; 8:45 am]

BILLING CODE 4000-01-P